ENVIRONMENTAL PROTECTION AGENCY

[EPA-R06-OW-2022-0603; FRL-6179.1-01-R6]

Proposed NPDES General Permit for New and Existing Sources and New Dischargers in the Offshore Subcategory of the Oil and Gas Extraction Category for the Western Portion of the Outer Continental Shelf of the Gulf of Mexico (GMG290000)

AGENCY: Environmental Protection Agency (EPA).

ACTION: Notice of proposed NPDES general permit issuance.

SUMMARY: The Regional Administrator of Region 6 proposes to reissue the National Pollutant Discharge Elimination System (NPDES) General Permit No. GMG290000 for existing and new sources and new dischargers in the Offshore Subcategory of the Oil and Gas Extraction Point Source Category, located in and discharging to the Outer Continental Shelf offshore of Louisiana and Texas. The discharge of produced water to that portion of the Outer Continental Shelf from Offshore Subcategory facilities located in the territorial seas of Louisiana and Texas is also authorized by this permit.

This draft permit proposes to retain, with certain modifications, the limitations and conditions of the existing 2017 issued permit (2017 permit). The 2017 permit limitations conform with the Oil and Gas Offshore Subcategory Guidelines and contain additional requirements to assess impacts from the discharge of produced water to the marine environment, as required by section 403(c) of the Clean Water Act. The Environmental Protection Agency (EPA) intends to use the reissued permit to regulate oil and gas extraction facilities located in the Outer Continental Shelf of the Western Gulf of Mexico, e.g., offshore oil and gas extraction platforms, but other types of facilities may also be subject to the permit. Covered operators would fall primarily under the North American Industrial Classification System (NAICS) 211 and 213 code series (previously the Standard Industrial Classification (SIC) 13 code series). To determine whether your facility, company, business, organization, etc., may be affected by this action, you should carefully examine the applicability criteria in Part I, Section A.1 of the draft permit.

DATES: Comments must be submitted in writing to EPA on or before September 20, 2022.

Proposed Documents: A complete draft permit and a fact sheet fully explaining the proposal are available online via the docket for this action at: https://www.regulations.gov. A copy of the proposed permit, fact sheet, and this Federal Register Notice may also be found via the EPA Region 6 website at: https://www3.epa.gov/region6/water/npdes/genpermit/index.htm.

To obtain hard copies of these documents or any other information in the administrative record, please contact Ms. Evelyn Rosborough using the contact information provided below.

Other Legal Requirements: Other statutory and regulatory requirements are discussed in the fact sheet that include: Oil Spill Requirement; Ocean Discharge Criteria Evaluation; Marine Protection, Research, and Sanctuaries Act; National Environmental Policy Act; Magnuson-Stevens Fisheries Conservation and Management Act; Endangered Species Act; State Water Quality Standards and State Certification; Coastal Zone Management Act; Paperwork Reduction Act; and Regulatory Flexibility Act.

How do I comment on this proposal?

Comment Submittals: You may send comments, identified by Docket ID. No. EPA-R06-OW-2022-0603; by any of the following methods:

• Federal eRulemaking Portal: https://www.regulations.gov/ (our preferred method).

• By Email: Send comments by email to rosborough.evelyn@epa.gov. Include Docket ID. No EPA-R06-OW-2022-0603; in the subject line of the email.

• By Mail/Hand Delivery/Courier: Deliver comments to U.S. EPA, Attn: Evelyn Rosborough, 1201 Elm Street, Dallas, Texas 75270.

• We encourage the public to submit comments via www.Regulations.gov or via email as there may be a delay in processing mail and hand deliveries will be accepted by appointment only due to public health concerns related to COVID-19.

• Please submit your comments within the specified time period cited in the DATES section of this document. Comments received after the close of the comment period will be marked “late”. The EPA is not required to consider these late comments. All comments received by the EPA in accordance with this section by the ending date of the comment period will be considered by the EPA before a final decision is made regarding permit issuance.

• Once submitted, comments cannot be edited or removed from the docket. The EPA may publish any comment received to its public docket.

Do not submit to EPA's docket or email any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

Administrative record: All documents and references used in the development of this permit are part of the Administrative Record for this permit. Although listed in the index, some information is not publicly available, e.g., CBI or other information whose disclosure is restricted by statute. Certain other material, such as copyrighted material, will be publicly available only in hard copy. Publicly available materials are available either electronically or in hard copy from Ms. Evelyn Rosborough at the address above. The Administrative Record may also be viewed at the EPA Region 6 Offices from 8:30 a.m. to 4:30 p.m., Monday through Friday, excluding legal holidays. For more information on scheduling a time to view the Record or to obtain copies of available documents, please contact Ms. Evelyn Rosborough at 214-665-7515 or rosborough.evelyn@epa.gov.

Public Meetings and Public Hearings

Public meetings and hearings on the proposed permit will be held during the comment period approximately 30 to 45 days after the date of this notice. Times, places and instructions for virtual participation will be announced online at the EPA Public Notices pages for Texas and Louisiana at https://www.epa.gov/publicnotices. The meetings will include a presentation on the proposed permit followed by the opportunity for questions and answers. The public hearings will be held in accordance with the requirements of 40 CFR 124.12. At the public hearing, any person may submit oral or written statements and data concerning the proposed permit. Any person who cannot attend one of the public hearings may still submit written comments, which have the same weight as comments made at the public hearing, through the end of the public comment period.

Authority: Clean Water Act, 33 U.S.C. 1251 et seq.

Charles W. Maguire,
Director, Water Division, EPA Region 6.

[FR Doc. 2022-15648 Filed 7-21-22; 8:45 am]

BILLING CODE 6560-50-P